DEPARTMENT OF COMMERCE

National Oceanic and Atmospheric Administration

RIN 0648-XD883

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that two Exempted Fishing Permit applications contain all of the required information and warrant further consideration. These Exempted Fishing Permits would allow commercial fishing vessels to fish outside of the limited access scallop regulations in support of research conducted by the Coonamessett Farm Foundation. The Exempted Fishing Permits would exempt participating vessels from the crew size restriction; and possession limits and minimum size requirements for sampling purposes only. These exemptions are in support of research conducted on trips to test gear modifications for bycatch reduction in the scallop dredge fishery.

Regulations under the Magnuson-Stevens Fishery Conservation and Management Act require publication of this notification to provide interested parties the opportunity to comment on applications for proposed Exempted Fishing Permits.

DATES: Comments must be received on or before May 12, 2015.

ADDRESSES: You may submit written comments by any of the following methods:

• Email: nmfs.gar.efp@noaa.gov. Include in the subject line “CFF Research Sampling EFP.”

• Mail: John K. Bullard, Regional Administrator, NMFS, Greater Atlantic Regional Fisheries Office, 55 Great Republic Drive, Gloucester, MA 01930. Mark the outside of the envelope “Comments on CFF Research Sampling EFP.”

• Fax: (978) 281-9135.

FOR FURTHER INFORMATION CONTACT: Shannah Jaburek, Fisheries Management Specialist, 978-282-8456.

SUPPLEMENTARY INFORMATION: Five proposals submitted by the Coonamesset Farm Foundation (CFF) have been favorably reviewed and are pending final approval by NOAA's Grants Management Division under the 2015 Atlantic Sea Scallop Research Set-Aside (RSA) Program, including one in support of a project titled, “Determining the Impacts of Dredge Bag Modifications on Flatfish Bycatch in the LAGC Scallop Fishery.” All grants would include RSA Compensation fishing trips to harvest the set-aside award in order to procure the necessary funds for completing the research.

CFF submitted two complete applications for EFPs on March 24, 2015, and March 25, 2015, to enable data collection activities during research and compensation fishing trips associated with the five Scallop RSA projects, which include allowing seven commercial fishing vessels to exceed the crew size regulations at 50 CFR 648.51(c) in order to place a researcher on the vessel, and temporarily exempt the participating vessels from possession limits and minimum size requirements specified in 50 CFR part 648, subsections B and D through O, for sampling purposes only. Any fishing activity conducted outside the scope of the exempted fishing activity would be prohibited, including landing fish in excess of a possession limit or below the minimum size.

Experimental fishing activity conducted on both the research project and the compensation fishing trips would test gear modifications that adhere to current scallop gear regulations in an attempt to reduce finfish bycatch in the dredge fishery. Gear modifications that would be tested include the use of alternative materials for shoes, the use of lights or cameras mounted to the dredge frame, and replacing the skirt with two rows of 12-inch (30.48-cm) square mesh. It would also include modifying the twine top by placing rows of 12-inch (30.48-cm) square mesh forward of, but not overlapping the remainder rows of 10-inch (25.40-cm) diamond mesh. All trips would take place in scallop fishing areas open to the entire Atlantic sea scallop fishery.

Exemption from crew size limits is needed because a research technician would accompany vessels on some of the compensation fishing trips to collect catch data associated with different dredge modifications. The crew size exemption would be for approximately 30 DAS per EFP. The additional crew would only be in support of data collection activities, and would not process catch to be landed for sale. Exemption from possession limit and minimum sizes would support catch sampling activities, and ensure the vessel is not in conflict with possession regulations while collecting catch data. All catch above a possession limit or below a minimum size would be discarded as soon as practicable following data collection.

For all EFP trips, scallop catch would be evaluated by the number of baskets caught and a total catch weight would be obtained by the researcher. Total weight of bycatch species and individual measurements to the nearest centimeter would also be obtained by the researcher. If the volume of the catch is large, subsampling protocols would be necessary. All bycatch would be returned to the sea as soon as practicable following data collection. All research trips would otherwise be conducted in a manner consistent with normal commercial fishing conditions and catch would be retained for sale.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 22, 2015.
Emily H. Menashes,
Acting Director, Office of Sustainable Fisheries, National Marine Fisheries Service.

[FR Doc. 2015-09649 Filed 4-24-15; 8:45 am]

BILLING CODE 3510-22-P